DEPARTMENT OF EDUCATION

[Docket No.: ED-2023-SCC-0212]

Agency Information Collection Activities; Submission to the Office of Management and Budget for Review and Approval; Comment Request; U.S. Department of Education Grant Performance Report Form (ED 524B)

AGENCY: Office of Finance and Operations (OFO), Department of Education (ED).

ACTION: Notice.

SUMMARY: In accordance with the Paperwork Reduction Act (PRA) of 1995, the Department is proposing a revision of a currently approved information collection request (ICR).

DATES: Interested persons are invited to submit comments on or before April 3, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Cleveland Knight, (202) 987-0064.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: U.S. Department of Education Grant Performance Report Form (ED 524B).

OMB Control Number: 1894-0003.

Type of Review: Revision of a currently approved ICR.

Respondents/Affected Public: State, local, and Tribal governments.

Total Estimated Number of Annual Responses: 13,300.

Total Estimated Number of Annual Burden Hours: 297,800.

Abstract: The ED 524B form and instructions are used by many ED discretionary grant programs to enable grantees to meet ED deadline dates for submission of performance reports to the Department.

As an interim (usually annual) performance report, ED uses the information submitted by grantees in the ED 524B to evaluate grantee performance and progress and to determine whether non-competing continuation funds should be awarded in multi-year grants. Only grantees that can demonstrate that they are making substantial progress (or, if not, have submitted an acceptable plan for meeting their objectives in subsequent budget periods) are eligible for continuation funding.

ED uses the information submitted on the ED 524B as a final performance report to determine whether grantees whose projects have ended have achieved project objectives and met or exceeded the Government Performance and Results Act and/or other program performance measures and grant requirements. This determination enables ED to assure that grants can be closed out in compliance.

Dated: February 28, 2024.
Stephanie Valentine,
PRA Coordinator, Strategic Collections and Clearance, Governance and Strategy Division, Office of Chief Data Officer, Office of Planning, Evaluation and Policy Development.

[FR Doc. 2024-04477 Filed 3-1-24; 8:45 am]

BILLING CODE 4000-01-P